DEPARTMENT OF THE TREASURY

Internal Revenue Service

Request for Applications for the IRS Advisory Committee on Tax Exempt and Government Entities

AGENCY: Internal Revenue Service (IRS).

ACTION: Notice.

SUMMARY: The Internal Revenue Service (IRS) is requesting applications for membership to serve on the Advisory Committee on Tax Exempt and Government Entities (ACT). Applications will be accepted for several vacancies which will occur in June 2007: At least two (2) employee plans; at least two (2) exempt organizations; at least one (1) Indian tribal governments; and at least one (1) tax exempt bonds. (There are currently no vacancies for federal, state and local governments.) To ensure appropriate balance of membership, final selection from qualified candidates will be determined based on experience, qualifications, and other expertise.

DATES: Written applications or nominations must be received on or before December 1, 2006.

Application: Applicants may use the ACT Application Form on the IRS Web site (http://www.irs.gov/ep; http://www.irs.gov.eo; http://www.irs.gov/bonds; or http://www.irs.gov/govts) or may send an application by letter with the following information: Name; Other Name(s) Used and Date(s) (required for FBI check); Date of Birth (required for FBI check); City and State of Birth (required for FBI check); Current Address; Telephone and Fax Numbers; and E-mail address, if any. Applications should also describe and document the proposed member's qualifications for membership on the ACT. Applicants should also specify the vacancy for which they wish to be considered.

ADDRESSES: Send all applications and nominations to: Steven Pyrek; Director, TE/GE Communications and Liaison; 1111 Constitution Ave., NW.—SE:T:CL, Penn Bldg; Washington, DC 20224; Fax: (202) 283-9956 (not a toll-free number); E-mail: steve.j.pyrek@irs.gov.

FOR FURTHER INFORMATION CONTACT: Steven Pyrek (202) 283-9966 (not a toll-free number), or by e-mail.

SUPPLEMENTARY INFORMATION: The Advisory Committee on Tax Exempt and Government Entities (ACT), governed by the Federal Advisory Committee Act, Public Law No. 92-463, is an organized public forum for discussion of relevant employee plans, exempt organizations, tax-exempt bonds, and Federal, State, local and Indian tribal government issues between officials of the IRS and representatives of the above communities. The ACT also enables the IRS to receive regular input with respect to the development and implementation of IRS policy concerning these communities. ACT members present the interested public's observations about current or proposed IRS policies, programs, and procedures, as well as suggest improvements.

ACT members shall be appointed by the Secretary of the Treasury and shall serve a two-year term. Terms can be extended for an additional year. ACT members will not be paid for their time or services. ACT members will be reimbursed for their travel-related expenses to attend working sessions and public meetings, in accordance with 5 U.S.C. 5703.

The Secretary of the Treasury invites those individuals, organizations, and groups affiliated with employee plans, exempt organizations, tax-exempt bonds, and federal, state, local or Indian tribal governments, to nominate individuals for membership on the ACT. Nominations should describe and document the proposed member's qualifications for membership on the ACT. Nominations should also specify the vacancy for which they wish to be considered. The Secretary seeks a diverse group of members representing a broad spectrum of persons experienced in employee plans, exempt organizations, tax-exempt bonds, and Federal, State, local or Indian tribal governments.

Nominees must go through a clearance process before selection. In accordance with Department of the Treasury Directive 21-03, the clearance process includes, among other things, pre-appointment and annual tax checks, and a Federal Bureau of Investigation criminal and subversive name check and security clearance.

Dated: October 26, 2006.
Steven J. Pyrek,
Designated Federal Official, Tax Exempt and Government Entities Division, Internal Revenue Service.

[FR Doc. E6-18329 Filed 10-31-06; 8:45 am]

BILLING CODE 4830-01-P